DEPARTMENT OF COMMERCE

National Oceanic and Atmospheric Administration

50 CFR Part 679

[I.D. 013006I]

RIN 0648-AU93

Fisheries of the Exclusive Economic Zone Off Alaska; Groundfish, Crab, Salmon, and Scallop Fisheries of the Bering Sea and Aleutian Islands Management Area and Gulf of Alaska, Essential Fish Habitat Rule Correction

AGENCY: National Marine Fisheries Service (NMFS), National Oceanic and Atmospheric Administration (NOAA), Commerce.

ACTION: Notice of reopening of a comment period.

SUMMARY: On June 19, 2007, NMFS published a proposed rule in the Federal Register to correct certain provisions of a June 28, 2006, essential fish habitat (EFH) rule for Alaska fisheries. The comment period deadline for written comments for the proposed rule was June 19, 2007. NMFS is reopening the comment period on this proposed rule because the E-mail account listed in the proposed rule for the submission of comments was in error and did not accept comments as intended. The proposed rule would clarify that portions of EFH management areas in the vicinity of the Aleutian Islands are located in State of Alaska waters. The proposed action also would apply EFH vessel monitoring system and closure requirements to federally permitted vessels operating in State of Alaska waters adjacent to the Gulf of Alaska (GOA) and Aleutian Islands subarea. This action is necessary to ensure federally permitted vessels operating in State of Alaska waters comply with EFH protection measures.

DATES: Written comments must be received by September 4, 2007.

ADDRESSES: Send comments to Sue Salveson, Assistant Regional Administrator, Sustainable Fisheries Division, Alaska Region, NMFS, Attn: Records Officer. Comments may be submitted by:

• Mail: P.O. Box 21668, Juneau, AK 99802;

• Hand delivery: 709 West 9th Street, Room 420A, Juneau, AK;

• Fax: 907-586-7557;

• E-mail: VMS-PR-0648-AU93@noaa.gov. Include in the subject line the following document identifier: “VMS PR.” E-mail comments, with or without attachments, are limited to 5 megabytes; or

• Webform at the Federal eRulemaking Portal: http://www.regulations.gov. Follow the instructions at that site for submitting comments.

FOR FURTHER INFORMATION CONTACT: Melanie Brown, 907-586-7228 or e-mail at melanie.brown@noaa.gov.

SUPPLEMENTARY INFORMATION: The proposed rule was published in the Federal Register on June 19, 2007 (72 FR 33732). Additional information on the proposed management measures are described in the proposed rule.

Dated: July 30, 2007.
Emily H. Menashes,
Acting Director, Office of Sustainable Fisheries, National Marine Fisheries Service.

[FR Doc. E7-15045 Filed 8-1-07; 8:45 am]

BILLING CODE 3510-22-S